DEPARTMENT OF HOMELAND SECURITY

Coast Guard

[USCG-2003-15531]

Great Lakes Pilotage Advisory Committee; Vacancies

AGENCY: Coast Guard, DHS.

ACTION: Request for applications.

SUMMARY: The Coast Guard seeks applications for membership on the Great Lakes Pilotage Advisory Committee (GLPAC). GLPAC advises the Coast Guard on matters related to regulations and policies on the pilotage of vessels on the Great Lakes.

DATES: Application forms must reach us on or before September 19, 2003.

ADDRESSES: You may request an application form and waiver by writing to Commandant (G-MW), U.S. Coast Guard, 2100 Second Street SW., Washington, DC 20593-0001; by calling (202) 267-6164; by faxing (202) 267-4700; or by e-mailing Jshort@comdt.uscg.mil. Send your completed application, a short resume, and the signed waiver (if you are applying for the second member position described in the SUPPLEMENTARY INFORMATION section of this notice) to the above street address or by fax to (202) 267-4700. This notice and the application and waiver forms are available on the Internet at http://dms.dot.gov.

FOR FURTHER INFORMATION CONTACT: Ms. Margie Hegy, Executive Director of GLPAC, at (202) 267-0415, fax (202) 267-4700.

SUPPLEMENTARY INFORMATION: The Great Lakes Pilotage Advisory Committee (GLPAC) is a Federal advisory committee under 5 U.S.C. App. 2; Pub. L. 92-463, 86 Stat. 770 (1972). It advises the Secretary of the Department of Homeland Security, via the Commandant of the Coast Guard, on the rules and regulations that govern the registration of pilots, the operating requirements for U.S. registered pilots, pilot training policies, and the policies and regulations that establish rates charges and conditions for pilotage services.

GLPAC meets at least twice a year at various locations in the continental United States. It may also meet for extraordinary purposes. Subcommittees or working groups may be designated to consider specific problems and will meet as required.

We will consider applications for two positions. The first position represents the interests of vessel operators who contract for pilotage services on the Great Lakes. In addition to representing the interests of this specific segment of the Great Lakes marine industry, you must have five years of practical experience in maritime operations.

The second vacant position has never been filled and is unique in that the member is required to have a background in finance or accounting, and the requirement for five years of practical experience in maritime operations that the other six GLPAC members must meet is waived for this position. In addition, applicants who do not live or work in the Great Lakes community are specifically encouraged to apply.

All applications for the second position only will be reviewed and discussed by the other six Committee members, as the candidate for this position must be recommended for appointment by a unanimous vote of the other members of the Committee. This discussion will occur in a public forum; however, information of a personal nature that would invade the privacy of the applicant, including his or her name, will be blacked out before the applications are made available to the public. Applicants will be asked to sign a waiver to allow discussion of their application at a public meeting of GLPAC.

Each member serves for a term of three years. A few members may serve consecutive terms. All members serve without compensation from the Federal Government, although travel reimbursement and per diem will be provided.

In support of the policy of the Department of Homeland Security on gender and ethnic diversity, we encourage qualified women and members of minority groups to apply.

Dated: July 14, 2003.
T.H. Gilmour,
Rear Admiral, U.S. Coast Guard, Assistant Commandant for Marine Safety, Security and Environmental Protection.

[FR Doc. 03-18376 Filed 7-18-03; 8:45 am]

BILLING CODE 4910-15-P